DEPARTMENT OF ENERGY

Federal Energy Regulatory Commission

Notice of Application Ready for Environmental Analysis and Soliciting Comments, Recommendations, Terms and Conditions, and Prescriptions

February 20, 2002.

Take notice that the following hydroelectric application has been filed with the Commission and is available for public inspection:

a. Type of Application: Minor License.

b. Project No.: 696-010.

c. Date filed: October 27, 1998.

d. Applicant: PacifiCorp.

e. Name of Project: American Fork Hydroelectric Project.

f. Location: On American Fork Creek, near the City of American Fork, Utah County, Utah, about 3 miles east of Highland, Utah. The project affects about 28.8 acres of federal lands within the Uinta National Forest. Also, approximately 2,000 feet of flowline passes through the Timpanogos Cave National Monument, administered by the U.S. Department of the Interior, National Park Service.

g. Filed Pursuant to: Federal Power Act 16 USC § 791(a)-825(r).

h. Applicant Contact: Mark A. Sturtevant, Project Manager, PacifiCorp 825 NE Multnomah, suite 1500, Portland, Oregon, 97232 (503) 813-6680.

i. FERC Contact: Any questions on this notice can be addressed to Gaylord W. Hoisington, E-mail address gaylord.hoisington@ferc.gov, or telephone (202) 219-2831.

j. Deadline for filing comments, recommendations, terms and conditions, and prescriptions: 60 days from the date of this notice

All documents (original and eight copies) should be filed with: Magalie R. Salas, Secretary, Federal Energy Regulatory Commission 888 First Street, NE., Washington, DC 20426. Comments, recommendations, terms and conditions, and prescriptions may be filed electronically via the Internet in lieu of paper. See 18 CFR 385.2001(a)(1)(iii) and the instructions on the Commission's web site (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protest, comments, recommendations, terms and conditions, and prescriptions may be filed electronically via the Internet in lieu of paper. See 18 CFR 385.2001(a)(1)(iii) and the instructions on the Commission's web site (http://www.ferc.gov) under the “e-Filing” link.

k. This application has been accepted, and is ready for environmental analysis at this time.

l. The American Fork Project consists of: (1) a 29-foot, 9-inch-wide and 4.5-foot-high reinforced concrete diversion dam; (2) a 6-foot-wide, 6-foot-long intake; (3) a 6-foot-long, 6-foot-wide manually operated sluice gate; (4) a 2-foot-long, 2-foot-wide manually operated upstream sluice gate; (5) a 28-inch-diameter, welded steel pipe flowline approximately 11,666 feet long which transitions into a 33-inch-diameter riveted steel penstock 253 feet long that transitions into a 20-inch-diameter riveted steel penstock 61 feet long; (6) an approximately 2,700-square-foot brick powerhouse; (7) one turbine generator unit with a rated capacity of 1,050 kilowatts; and (8) other appurtenances.

m. A copy of the application is on file with the Commission and is available for public inspection. This filing may also be viewed on the web at http://www.ferc.gov using the “RIMS” link—select “Docket #” and follow the instructions (call 202-208-2222 for assistance). A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Magalie R. Salas,
Secretary.

[FR Doc. 02-4569 Filed 2-26-02; 8:45 am]

BILLING CODE 6717-01-P